FEDERAL COMMUNICATIONS COMMISSION

47 CFR Part 9

[WC Docket No. 08-171, FCC 08-249]

Implementation of the NET 911 Improvement ACT of 2008: Location Information From Owners and Controllers of 911 and E911 Capabilities

AGENCY: Federal Communications Commission.

ACTION: Final rule; announcement of effective date.

SUMMARY: In this document, the Commission announces that the Office of Management and Budget (OMB) has approved, for a period of three years, an information collection requirement associated with the Implementation of the NET 911 Improvement Act of 2008: Location Information from Owners and Controllers of 911 and E911 Capabilities Report and Order (NET 911 Improvement Act of 2008 Report and Order), FCC 08-249. This document is consistent with the NET 911 Improvement Act of 2008 Report and Order, which stated that the Commission would publish a document in the Federal Register announcing the effective date of the rule.

DATES: 47 CFR 9.7(a), published at 74 FR 31860, July 6, 2009, is effective April 25, 2018.

FOR FURTHER INFORMATION CONTACT: Brenda Boykin, Policy and Licensing Division, Public Safety and Homeland Security Bureau at (202) 418-2062 or brenda.boykin@fcc.gov. For additional information concerning the Paperwork Reduction Act information collection requirements, contact Nicole Ongele at (202) 418-2991 or nicole.ongele@fcc.gov.

SUPPLEMENTARY INFORMATION: A summary of the NET 911 Improvement Act of 2008 Report and Order was published in the Federal Register on July 6, 2009, 74 FR 31860. The summary stated that with the exception of Section 9.7(a), which required OMB approval, the rules adopted in the Report and Order would become effective on October 5, 2009. With regard to Section 9.7(a), the Commission stated that it will publish a document in the Federal Register announcing the effective date of the rule. The information collection requirement in Section 9.7(a) was approved by OMB under OMB Control No. 3060-1131. Most recently, OMB renewed its approval of the information collection on June 17, 2016. With publication of the instant document in the Federal Register, the rule at 47 CFR 9.7(a) is now effective. If you have any comments on the burden estimates listed below, or how the Commission can improve the collections and reduce any burdens caused thereby, please contact Nicole Ongele, Federal Communications Commission, Room1-A620, 445 12th Street SW, Washington, DC 20554. Please include the OMB Control No. 3060-1131 in your correspondence. The Commission will also accept your comments via email at PRA@fcc.gov. To request materials in accessible formats for people with disabilities (Braille, large print, electronic files, audio format) send an email to fcc504@fcc.gov or call the Consumer and Governmental Affairs Bureau (202) 418-0530 (voice), (202) 418-0432 (TTY).

Synopsis

As required by the Paperwork Reduction Act of 1995 (44 U.S.C. 3507), the FCC is notifying the public that it received final OMB approval on December 3, 2009, for the information collection requirement contained in the Commission's rule at 47 CFR 9.7(a).

Under 5 CFR part 1320, an agency may not conduct or sponsor a collection of information unless it displays a current, valid OMB Control Number.

No person shall be subject to any penalty for failing to comply with a collection of information subject to the Paperwork Reduction Act that does not display a current, valid OMB Control Number. The OMB Control Number is 3060-1131.

The foregoing notice is required by the Paperwork Reduction Act of 1995, Public Law 104-13, October 1, 1995, and 44 U.S.C. 3507.

The total annual reporting burdens and costs for the respondents are as follows:

OMB Control Number: 3060-1131.

OMB Approval Date: December 3, 2009.

OMB Expiration Date: December 31, 2012.

Title: Implementation of the NET 911 Improvement ACT of 2008: Location Information from Owners and Controllers of 911 and E911 Capabilities.

Form Number: N/A.

Respondents: Business or other for-profit.

Number of Respondents and Responses: 60 respondents; 60 responses.

Estimated Time per Response: 0.0833 hours (5 minutes).

Frequency of Response: On occasion reporting requirements and third party disclosure requirement.

Obligation to Respond: Required to obtain or retain benefits. Statutory authority for this information collection is contained in the New and Emerging Technologies 911 Improvement Act of 2008 (NET 911 Act), Public Law 110-283, Stat. 2620 (2008) (to be codified at 47 CFR Section 615a-1), and section 222 of the Communications Act of 1934, as amended.

Total Annual Burden: 5 hours.

Total Annual Cost: No Cost.

Nature and Extent of Confidentiality: To implement section 222 of the Communications Act of 1934, as amended, the Commission's rules impose a general duty on carriers to protect the privacy of customer proprietary network information and carrier proprietary information from unauthorized disclosure. See 47 CFR 64.2001 et seq. In the Order, the Commission additionally has clarified that the Commission's rules contemplate that incumbent LECs and other owners or controllers of 911 or E911 infrastructure will acquire information regarding interconnected VoIP providers and their customers for use in the provision of emergency services. The Commission fully expects that these entities will use the information only for the provision of E911 services. No entity may use customer information obtained as a result of the provision of 911 or E911 services for marketing purposes.

Privacy Act: No impact(s).

Needs and Uses: On October 21, 2008, the Commission released a Report and Order, FCC 08-249, WC Docket No. 08-171, that implements certain provisions of the NET 911 Act, New and Emerging Technologies 911 Improvement Act of 2008, Public Law 110-283, 122 Stat. 2620 (2008). The Report and Order requires an owner or controller of a capability that can be used for 911 or E911 service to make that capability available to a requesting interconnected Voice over internet Protocol (VoIP) provider under certain circumstances. In particular, an owner or controller of such capability must make it available to a requesting interconnected VoIP provider if that owner or controller either offers that capability to any commercial mobile radio service (CMRS) provider or if that capability is necessary to enable the interconnected VoIP provider to provide 911 or E911 service in compliance with the Commission's rules. 47 CFR 9.7(a). This requirement, in turn, involves the collection and disclosure to emergency services personnel of customers' location information.

Federal Communications Commission.
Marlene Dortch,
Secretary, Office of the Secretary.

[FR Doc. 2018-08568 Filed 4-24-18; 8:45 am]

BILLING CODE 6712-01-P